DEPARTMENT OF THE INTERIOR

Bureau of Land Management

[LLOR930000.L16100000.DO0000.LXSSH0930000.15XL1109AF, HAG 15-0052]

Notice of Intent To Prepare a Resource Management Plan and Associated Environmental Impact Statement for the San Juan Islands National Monument

AGENCY: Bureau of Land Management, Interior.

ACTION: Notice of intent.

SUMMARY: In compliance with the National Environmental Policy Act of 1969, as amended, (NEPA) the Federal Land Policy and Management Act of 1976, as amended, (FLPMA) and Presidential Proclamation No. 8947 (Establishment of the San Juan Islands National Monument) (March 25, 2013), the Bureau of Land Management (BLM) Spokane District Office, Spokane, Washington, intends to prepare a Resource Management Plan (RMP) with an associated Environmental Impact Statement (EIS) for the San Juan Islands National Monument (Monument) and, by this notice, is announcing the beginning of the scoping process to solicit public comments and identify issues.

DATES: This notice initiates the public scoping process for the RMP with an associated EIS. Comments on issues may be submitted in writing until April 1, 2015. The dates and locations of any scoping meetings will be announced at least 15 days in advance through local media, newspapers, and the BLM Web site at: http://www.blm.gov/or/plans. In order to be included in the Draft EIS, all comments must be received prior to the close of the 30-day scoping period or 15 days after the last public meeting, whichever is later. We will provide additional opportunities for public participation upon publication of the Draft EIS.

ADDRESSES: You may submit comments on issues and planning criteria related to the San Juan Islands RMP/EIS by any of the following methods: Email: blm_or_sanjuanislandsnm@blm.gov; Fax: 503-808-6333; Mail: 1103 N Fancher Road, Spokane Valley, WA 99212.

Documents pertinent to this proposal may be examined at the Spokane District Office, 1103 North Fancher Road, Spokane Valley, WA 99212; the Wenatchee Field Office, 915 North Walla Walla Street, Wenatchee, WA 98801; and the Oregon State Office, Public Room, 1220 SW. Third Avenue, Portland, OR 97204.

FOR FURTHER INFORMATION CONTACT: Ms. Lauren Pidot, San Juan National Monument RMP Team Lead; telephone 503-808-6297; address 1103 North Fancher Road, Spokane Valley, WA 99212; email blm_or_sanjuanislandsnm@blm.gov. Contact Ms. Pidot to add your name to our mailing list. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: This document provides notice that the BLM Spokane District Office, Washington, intends to prepare an RMP with an associated EIS for the Monument, announces the beginning of the scoping process, and seeks public input on issues and planning criteria. The planning area is located in San Juan, Whatcom, and Skagit Counties, Washington, and encompasses approximately 995 acres of public land. The Monument was established on March 25, 2013, by Presidential Proclamation (Proclamation) for the purposes of protecting objects of historical and scientific interest and enhancing areas of unique and varied natural, historical, and scientific resources for the benefit of all Americans. The Proclamation specified that the BLM “shall prepare and maintain a management plan for the monument and shall establish an advisory committee under the Federal Advisory Committee Act (5 U.S.C. App.) to provide information and advice regarding the development of such plan.” The purpose of the public scoping process is to determine relevant issues that will influence the scope of the environmental analysis, including alternatives, and guide the planning process.

Preliminary issues for the planning area have been identified by BLM personnel; Federal, State, and local agencies; and other stakeholders. The issues include those associated with the objects and resources for which the monument was designated, including cultural and ecological values and wildlife; opportunities for recreation and interpretation; traditional uses and tribal interests; land use authorizations, such as rights-of-way for access; and travel and transportation management. Preliminary planning criteria include: (1) The plan will adhere to the mandates of the Proclamation that established the Monument; (2) the plan will be developed in compliance with FLPMA, NEPA, and all other applicable laws, regulations, Executive and Secretarial Orders, and policies; (3) public participation and collaboration will be an integral part of the planning process; (4) the planning process will provide for ongoing consultation with Native American tribal governments and strategies for protecting traditional uses; (5) the BLM will work collaboratively with cooperating agencies and all other interested groups, agencies, and individuals; (6) the BLM will work collaboratively with the Monument Advisory Committee established for this planning process; and (7) the plan will recognize the jurisdiction of other Federal, State, and local agencies and will encourage cooperative partnerships with these agencies to support land management in the Monument.

The BLM will use the NEPA public participation requirements to assist the agency in satisfying the public involvement requirements under Section 106 of the National Historic Preservation Act (NHPA) (54 U.S.C 306108 (as recodified)) pursuant to 36 CFR 800.2(d)(3). The information about historic and cultural resources within the area potentially affected by the proposed action will assist the BLM in identifying and evaluating impacts to such resources in the context of both NEPA and Section 106 of the NHPA. The BLM will consult with Indian tribes on a government-to-government basis in accordance with Executive Order 13175 and other policies. Tribal concerns, including impacts on Indian trust assets and potential impacts to cultural resources, will be given due consideration. Federal, State, and local agencies, along with tribes and other stakeholders that may be interested in or affected by the proposed action, are invited to participate in the scoping process and, if eligible, may request or be asked by the BLM to participate as a cooperating agency.

You may submit comments on issues and planning criteria in writing to the BLM at any public scoping meeting, or you may submit them to the BLM using one of the methods listed in the ADDRESSES section above. To be most helpful, you should submit comments by the close of the 30-day scoping period or within 15 days after the last public meeting, whichever is later. Before including your address, phone number, email address, or other personal identifying information in your comment, you should be aware that your entire comment—including your personal identifying information—may be made publicly available at any time. While you can ask us in your comment to withhold your personal identifying information from public review, we cannot guarantee that we will be able to do so. The minutes and list of attendees for each scoping meeting will be available to the public and open for 30 days after the meeting to any participant who wishes to clarify the views he or she expressed. The BLM will evaluate identified issues to be addressed in the plan, and will place them into one of three categories:

1. Issues to be resolved in the plan;

2. Issues to be resolved through policy or administrative action; or

3. Issues beyond the scope of this plan.

The BLM will provide an explanation in the Draft RMP/EIS as to why an issue was placed in category two or three. The public is also encouraged to help identify any management questions and concerns that should be addressed in the plan. The BLM will work collaboratively with interested parties to identify the management decisions that are best suited to local, regional, and national needs and concerns.

The BLM will use an interdisciplinary approach to develop the plan in order to consider the variety of resource issues and concerns identified. Specialists with expertise in the following disciplines will be involved in the planning process: archaeology and cultural resources, geology, wildlife and fisheries, botany, recreation, and lands and realty.

Authority: 40 CFR 1501.7, 43 CFR 1610.2.

Jerome E. Perez,
Oregon/Washington State Director.

[FR Doc. 2015-04289 Filed 2-27-15; 8:45 am]

BILLING CODE 4310-33-P